DEPARTMENT OF HOMELAND SECURITY

Coast Guard

[Docket Number USCG-2019-0882]

BNSF Railway Bridge Across the Missouri River at Bismarck, North Dakota; Preparation of Environmental Impact Statement

AGENCY: Coast Guard, DHS.

ACTION: Notice of intent to prepare an EIS; and request for comments.

SUMMARY: In accordance with the National Environmental Policy Act of 1969 (NEPA) and the regulations implemented by the Council on Environmental Quality (CEQ), and the National Historic Preservation Act (NHPA), the Coast Guard announces its intent to prepare an Environmental Impact Statement (EIS) to evaluate the potential environmental consequences of replacing the existing BNSF bridge across the Missouri River at Bismarck, ND, or constructing a bridge adjacent to the existing bridge. CEQ regulations require an early and open process for determining the scope of issues that the Coast Guard needs to address in an EIS (“scoping”). Scoping determines which issues to analyze in depth in the EIS and eliminates from detailed study the issues that are not significant or were covered in prior environmental reviews. This document invites the participation of affected federal, state, and local agencies, any affected Indian tribes and other interested persons in determining the appropriate issues for EIS analysis for this project.

DATES: Comments must be submitted to the online docket via https://www.regulations.gov/, on or before February 24, 2020.

ADDRESSES: You may submit comments identified by docket number USCG-2019-0882 using the Federal eRulemaking Portal at https://www.regulations.gov/. See the “Public Participation and Request for Comments” portion of the SUPPLEMENTARY INFORMATION section for further instructions on submitting comments.

FOR FURTHER INFORMATION CONTACT: Rob McCaskey, Coast Guard District Eight Project Officer, 314-269-2381.

SUPPLEMENTARY INFORMATION:

I. Background and Purpose

BNSF Railway Company owns and operates the existing bridge that crosses the Missouri River between the cities of Mandan, and Bismarck, North Dakota. With components over 130 years old, the in-place structure is approaching the end of its useful service life. The structure has a history of exposure to ice jams and its substructure configuration renders it potentially susceptible to scour events. Although currently stable, the structure has experienced structural issues at both approaches in the past, resulting in unanticipated substructure movements. Since constructing the original bridge in 1882, the east hill slope began to move and resulted in the slope moving the pier west towards the river inches per year. Multiple remediation efforts to correct the pier damage/location and slope movement took place from the early 1800s to the mid 1950s. The intent of the project is to construct a new, independent bridge across the Missouri River upstream of the in-place structure. Operationally, the new structure will carry the mainline track and the current structure will be taken down. The new structure will provide a significant improvement in operational reliability and safety, and will provide enhanced structural redundancy thereby making it less susceptible to damage. As the current structure is 130 years old, it requires substantial inspection and maintenance, which are disruptive to rail service. The new structure will be a single-track bridge but have the capability to carry a second track in the future when and if volumes necessitate that addition.

The BNSF Bismarck Bridge was constructed with similar methods in the same era as the Brooklyn Bridge. It is an iconic landmark that predates official North Dakota statehood by six years. The bridge is eligible for listing in the National Register of Historic Places for its association with broad patterns of railroad, commercial and military history of the United States. Because of these attributes, certain interest groups have expressed a desire to preserve the existing bridge.

The federal bridge statutes, including the River and Harbors Act of 1899, as amended, the Act of March 23, 1906, as amended, and the General Bridge Act of 1946 (33 U.S.C. 525 et seq.), require that the location and plans of bridges in or over navigable waters of the United States be approved by the Secretary of Homeland Security, who has delegated that responsibility to the Coast Guard. The Missouri River is a navigable water of the United States as defined in 33 CFR 2.36(a). In exercising these bridge authorities, the Coast Guard considers navigational and environmental impacts, which include historic and tribal effects. The Coast Guard's primary responsibility regarding BNSF's proposed railroad bridge is to ensure the structure does not unreasonably obstruct navigation.

The Coast Guard is the lead federal agency (LFA) for this project and, as such, responsible for the review of its potential effects on the human environment, including historic properties and tribal impacts, pursuant to NEPA and NHPA. The Coast Guard is, therefore, required by law to ensure potential environmental effects are carefully evaluated in each bridge permitting decision.

On December 14, 2017, the Coast Guard held a public meeting and open house in Bismarck, ND, to identify impacts of the bridge alteration or replacement and to provide an opportunity for the public to offer comments relating to the bridge project. The meeting was held in compliance with Section 106 of the NHPA, 36 CFR 800.2(d). In addition, the meeting was also used to explain the NEPA process for this project. At the meeting, the Coast Guard accepted input from the public on the potential impacts associated with the project that should be addressed while developing the Environmental Assessment. Since that time, it has been determined that there might be a significant impact associated with the potential removal of the existing historic bridge. Therefore, the Coast Guard has decided to proceed with the development of an EIS. During this process, the Coast Guard will be addressing the significant impact on the historic bridge through a Programmatic Agreement in accordance with Section 106 of the NHPA. Both the draft EIS and draft Programmatic Agreement will be available for public comment when the documents are developed.

The transcript for the meeting is available on the Federal Docket associated with this notice and provides a summary of the impacts associated with the alternatives considered to date. The four alternatives considered include different span lengths, with the piers at different distances from the current bridge. Specifically, the options included:

• Building a new bridge with 200 foot spans and piers 92.5 ¹ feet upstream of the existing bridge (alternative considered keeping the existing bridge and removing the existing bridge)

¹ In prior communications with stakeholders at the 2017 public meeting, the preferred alternative (bridge) was described as having a track 80ft and a space for a future second track at 105ft from the center line of the current bridge. Note the distance between the tracks (e.g. new and future) is 25ft, and the centerline of the proposed bridge is located half way in between these tracks, which is 92.5ft from the center of the existing bridge. For the purpose of simplifying the description of the preferred alternative, the dimension from the existing bridge was referenced as the distance between the centerline of the existing and proposed bridge, instead of distance to tracks. In short, the 92.5ft referenced in the BNSF November 2019 presentation, “BNSF Br. 196.6 Replacement Design Concepts Considered” is exactly the same placement as previously communicated.

• Building a new bridge with 400 foot spans and piers 92.5 ¹ feet upstream of the existing bridge (alternative considered keeping the existing bridge and removing the existing bridge)

• Building a new bridge with 200 foot spans and piers 42.5 feet upstream of the existing bridge (alternative considered keeping the existing bridge and removing the existing bridge)

• Building a new bridge with 200 foot spans and piers 20 feet upstream of the existing bridge and removing the existing bridge (BNSF Preferred Design).

The alternatives were developed to meet the purpose and need of the project, which is to provide BNSF Railway with a new bridge that can accommodate two tracks at a future date should a second track become needed. There are specific constraints in the area that must be taken into consideration as designs are evaluated. For example, the bridge is close to the Missouri River Natural Area, which is a federally funded park managed by the North Dakota Parks and Recreation Department in cooperation with the North Dakota Department of Transportation, Morton County Parks, and the City of Mandan. The Missouri River Natural Area is the home to many species, including bald eagles, fox, deer and owls. Likewise, the bridge is in close proximity to the Bismarck Reservoir, which is a major source of drinking water for residents of the area and is located in an area with a history of significant slope stability issues.

The Federal Docket also contains a slide show and Fact Sheet providing additional information on the alternatives being considered.

As part of this evaluation process, the Coast Guard solicits comments from State and Federal agencies with expertise in, and authority over, particular resources that may be impacted by a project. Additionally, the Coast Guard seeks input from any tribes that may be affected or otherwise have expertise or equities in the project. Agencies that have already participated in the environmental review of this Project include the U.S. Army Corps of Engineers (USACE), the U.S. Fish and Wildlife Service (USFWS), the U.S. Federal Emergency Management Agency (FEMA), the North Dakota State Historic Preservation Office (SHPO) and the Advisory Council on Historic Preservation (ACHP).

This project meets the definition of a Major Infrastructure Project under Executive Order 13807: Establishing Discipline and Accountability in the Environmental Review and Permitting Process for Infrastructure Projects, also known as “One Federal Decision.” Pursuant to the requirements in One Federal Decision, the Coast Guard intends to issue a single Final EIS and Record of Decision (ROD) document, unless the Coast Guard determines statutory criteria or practicability considerations preclude issuance of a combined document. One Federal Decision prescribes an average of two years from the date of publication of a notice of intent to a single Final EIS and ROD.

II. Scoping Process

CEQ NEPA regulations at 40 CFR part 1501.7 require an early and open process for determining the scope of issues that the LFA needs to address in an EIS. This is known as scoping. LFAs are required to invite the participation of affected federal, state, and local agencies, any affected Indian tribes and other interested persons in determining the appropriate issues for EIS analysis. Scoping determines which issues to analyze in depth in the EIS and eliminates from detailed study the issues that are not significant or were covered in prior environmental reviews.

When evaluating potential alternatives to this project, the Coast Guard will consider impacts on historic properties including the current bridge, impacts to endangered or threatened species and impacts to the Bismarck Reservoir and the Missouri River Natural Area. Additionally, FEMA has identified the area of the project as a floodplain under the National Flood Insurance Program. As such, the design must meet FEMA's “no net rise” requirement, which is intended to prevent increasing flood hazard risks to existing structures and property.

III. Information Requested

The Coast Guard is developing a draft EIS that addresses impacts associated with the alternatives mentioned in Section I above. These impacts include those environmental control laws listed in the Coast Guard's Bridge Permit Application Guide (available at https://www.dco.uscg.mil/Portals/9/DCO%20Documents/5pw/Office%20of%20Bridge%20Programs/BPAG%20COMDTPUB%20P16591%203D_Sequential%20Clearance%20Final(July2016).pdf), as well as those impacts associated with floodplain rise, the Bismarck Water Reservoirs and the Missouri River Natural Area. Impacts associated with the historic bridge will be addressed in a Section 106 Programmatic Agreement, which will be made available for comment when the draft EIS is made available for comment. If there are other items that should be addressed in the draft EIS, please send those comments to the Coast Guard as indicated in Section IV below.

IV. Public Participation and Request for Comments

In accordance with the CEQ regulations, the Coast Guard invites public participation in the NEPA and NHPA process. This notice requests public participation in the scoping process, establishes a public comment period, and provides information on how to participate. If you submit a comment, please include the docket number for this notice and provide a reason for each suggestion or recommendation.

We encourage you to submit comments through the Federal portal at http://www.regulations.gov. If your material cannot be submitted using http://www.regulations.gov, contact the person in the FOR FURTHER INFORMATION CONTACT section of this document for alternate instructions. Documents mentioned in this notice, and all public comments, are in our online docket at http://www.regulations.gov and can be viewed by following that website's instructions. Additionally, if you go to the online docket and sign up for email alerts, you will be notified when comments are posted or a final rule is published.

We accept anonymous comments. All comments received will be posted without change to http://www.regulations.gov and will include any personal information you have provided. For more about privacy and submissions in response to this document, see DHS's Correspondence System of Records notice (84 FR 48645, September 26, 2018).

V. Public Meeting

We do not plan to hold public meetings during this scoping period. Our scoping meeting for NEPA and the NHPA was held on December 14, 2017, at the commencement of the Coast Guard bridge permitting process.

Dated: January 2, 2020.
Brian L. Dunn,
Chief, Office of Bridge Programs.

[FR Doc. 2020-00053 Filed 1-7-20; 8:45 am]

BILLING CODE P